DEPARTMENT OF HOMELAND SECURITY

Coast Guard

[CGD08-05-016]

RIN 1625-AA01

Anchorage Regulations; Mississippi River Below Baton Rouge, LA, Including South and Southwest Passes

AGENCY: Coast Guard, DHS.

ACTION: Notice of meeting.

SUMMARY: The United States Coast Guard will meet to discuss the comments received relating to the Notice of Proposed Rulemaking (NPRM) for Kenner Bend Anchorage as published in the Federal Register, Vol. 70, No. 80 on Wednesday, April 27, 2005.

DATES: The meeting will be held on Wednesday, January 4, 2006, from 9 a.m. to 12 p.m. This meeting may adjourn early if all business is finished.

ADDRESSES: The meeting will be held in the Basement Conference Room at the Hale Boggs Federal Building, 500 Poydras Street, New Orleans, Louisiana. This notice is available on the Internet at http://dms.dot.gov.

FOR FURTHER INFORMATION CONTACT: Lieutenant Junior Grade (LTJG) Melissa Owens, Waterways Management Division, telephone (504) 846-5923, fax (504) 589-8919.

Background

Runway 1-19 at the Louis Armstrong New Orleans International Airport is positioned in a north-south line running parallel to the Airport Access Road. Aircraft approaching the runway from the south or departing the runway from the north pass over the Lower Kenner Bend Anchorage. Due to the close proximity of Runway 1-19 to Kenner Bend, aircraft occasionally descend and ascend directly over vessels anchored in the Lower Kenner Bend Anchorage, creating a potentially dangerous situation that is of particular concern during periods of reduced visibility. Aircraft approaching the runway from the south follow a descending glide slope path with a minimum height of 311 feet above mean sea level over the Kenner Bend Anchorage. Certain vessels with cargo handling equipment such as cranes and boom are capable of extending equipment to a height upwards of 300 feet above the waterline. This amendment to the anchorage regulations for the Mississippi River below Baton Rouge, LA, including South and Southwest Passes is proposed to prohibit vessels that are anchored in the Lower Kenner Bend Anchorage from engaging in cargo transfer operations or exercising any shipboard equipment such as cranes and booms while at anchor. This proposed revision is needed to increase safety at Kenner Bend by reducing the potential for collision between aircraft and vessels anchored in the Lower Kenner Bend Anchorage.

Discussion of Issues

The Coast Guard received three negative comments to the NPRM for Kenner Bend Anchorage from the Maritime Navigation Safety Association (MNSA), the Steamship Association of Louisiana (SALA), and the New Orleans and Baton Rouge Port (NOBRA) Pilots. All three organizations contend that the complete prohibition against using cargo-handling equipment is excessive, and argue that some operations should be allowed while at anchor. To better express their concerns, all parties requested a public meeting be held. This meeting is open to the public. Please note that the meeting may close early if all business is finished.

Information on Services for Individuals With Disabilities

For information on facilities or services for individuals with disabilities, or to request special assistance at the meetings, contact the Committee Administrator at the location indicated under Addresses as soon as possible.

Dated: December 8, 2005.
R.F. Duncan,
Rear Admiral, U.S. Coast Guard, Commander Eighth Coast Guard District.

[FR Doc. E5-7794 Filed 12-22-05; 8:45 am]

BILLING CODE 4910-15-P